DEPARTMENT OF THE INTERIOR

Bureau of Reclamation

Closure Order Establishing Prohibitions at Trinity Lake, CA

AGENCY: Bureau of Reclamation, Interior.

ACTION: Notice of closure.

SUMMARY: Purpose of Closure Order: This closure is issued to provide for the protection of Federal property and to ensure public safety at Reclamation facilities.

Closure Areas: Under the authority of 43 CFR 423.3(b) the following facilities, lands, and waters are closed to the public: The crest of Trinity Dam and adjacent property, buildings, and facilities under the control of Reclamation. The closure area includes the area from the dam crest to the upstream waterline and 700 feet downstream of Trinity Dam and 700 feet on either side of the entire width of the dam downstream.

DATES: The entire closure area is to remain closed effective April 10, 2005, and remain closed indefinitely except as permitted as described below.

ADDRESSES: A map is available for inspection at Reclamation's Northern California Area Office (NCAO), located at 16349 Shasta Dam Boulevard, Shasta Lake, California 96019.

FOR FURTHER INFORMATION CONTACT: Bureau of Reclamation, Mid-Pacific Region Public Affairs Officer, Jeff McCracken, at (916) 978-5100.

SUPPLEMENTARY INFORMATION: Prohibited Acts: The following acts are prohibited in the closure area.

A. Operating a motorized vehicle of any kind, including stopping, standing, or parking in the closure area.

General Exception: Operations, maintenance, and construction personnel that have express written authorization from the Mid-Pacific Regional Director, NCAO Area Manager or his/her designee, law enforcement and fire department officials; ambulances and others who have received express written authorization to enter the closure area.

B. Entering the closure area on foot, on bicycle, or by any other means.

General Exception: Reclamation employees acting within the scope of their employment; operations, maintenance, and construction personnel that have express authorization from the Mid-Pacific Regional Director, NCAO Area Manager, or his/her designee, law enforcement and fire department officials; and others who have received express written authorization from the Mid-Pacific Regional Director, NCAO Area Manager, or his/her designee to enter the closure area.

Limited Exception: Pedestrians and bicyclists may enter that portion of the closure area along the west side of the river for the purpose of fishing. All persons shall comply with all signs and other directions as posted or disclosed. This limited exception to the closure order may be revoked at any time to meet operational, security, or safety concerns as determined by the area manager or his/her designee.

C. Operating a vessel or watercraft of any kind, swimming, or scuba diving.

General Exception: Reclamation employees acting within the scope of their employment; operations, maintenance, and construction personnel that have express authorization from the Mid-Pacific Regional Director, NCAO Area Manager, or his/her designee, law enforcement and fire department officials; and others who have received express written authorization from the Mid-Pacific Regional Director, NCAO Area Manager, or his/her designee to enter the closure area.

D. Fires.

E. Vandalism or destroying, injuring, defacing, or damaging real property that is not under one's lawful control or possession.

F. Tampering or attempting to tamper with property or real property, or moving, manipulating, or setting in motion any of the parts thereof.

Violation of the prohibition listed in 43 CFR part 423 is punishable by fine or imprisonment for not more than 6 months, or both.

Dated: March 2, 2005.
Michael J. Ryan,
Area Manager, Northern California Area Office, Mid-Pacific Region.

[FR Doc. 05-6112 Filed 3-28-05; 8:45 am]

BILLING CODE 4310-MN-P